POSTAL SERVICE

Sunshine Act Meting

Times and Dates: 11 a.m., Monday, September 13, 2004; 8:30 a.m., Tuesday, September 14, 2004.

Place: Boston Massachusetts, at the Hotel Commonwealth, 500 Commonwealth Avenue, in the Esplanade Room.

Status: September 13—11 a.m. (Closed); September 14—8:30 a.m. (Open)

Matters to be Considered: Monday, September 13—11 a.m. (Closed)

1. Office of Inspector General Fiscal Year 2005 Budget.

2. Financial Update.

3. Fiscal Year 2005 Integrated Financial Plan Briefing.

4. Rate Case Planning

5. Strategic Planning.

6. Personnel Matters and Compensation Issues.

Tuesday, September 14—8:30 a.m. (Open)

1. Minutes of the Previous Meeting, July 19-20, 2004.

2. Remarks of the Postmaster General and CEO.

3. Committee Reports.

4. Board of Governors Bylaw Amendments.

5. Postal Rate Commission Fiscal Year 2005 Budget.

6. Fiscal Year 2005 Annual Performance Plan-Government Performance and Results Act.

7. Fiscal Year 2005 Operating Plan.

8. Fiscal Year 2005 Capital Investment Plan.

9. Preliminary Fiscal Year 2006 Appropriation Request.

10. Capital Investments.

a. 210 automatic Induction Systems for AFSM 100.

b. Integrated Dispatch and Receipt.

c. Cargo Vans Modification Request.

d. Atlantic City, New Jersey, Main Post Office.

11. Report on the Northeast Area and Boston District.

12. Tentative Agenda for the November 4, 2004, meeting in Washington, DC.

CONTACT PERSON FOR MORE INFORMATION: William T. Johnstone, Secretary of the Board, U.S. Postal Service, 475 L'Enfant Plaza, S.W., Washington, DC 20260-1000. Telephone (202) 268-4800.

William T. Johnstone,
Secretary.

[FR Doc. 04-20418 Filed 9-3-04; 1:42 pm]

BILLING CODE 7710-13-M